DEPARTMENT OF ENERGY

Federal Energy Regulatory Commission

Combined Notice of Filings #2

Take notice that the Commission received the following electric rate filings:

Docket Numbers: ER11-2494-002.

Applicants: Mountain Wind Power II LLC.

Description: Mountain Wind Power II LLC's Compliance Filing to be effective 12/23/2010.

Filed Date: 3/19/12.

Accession Number: 20120319-5002.

Comments Due: 5 p.m. ET 4/9/12.

Docket Numbers: ER12-41-000.

Applicants: ITC Midwest LLC.

Description: Filing of a Refund Report to be effective N/A. 0.

Filed Date: 3/19/12.

Accession Number: 20120319-5099.

Comments Due: 5 p.m. ET 4/9/12.

Docket Numbers: ER12-1113-001.

Applicants: Midwest Independent Transmission System Operator, Inc., International Transmission Company.

Description: ITC-DTE River Rouge Amendment 2 to be effective 4/17/2012.

Filed Date: 3/19/12.

Accession Number: 20120319-5048.

Comments Due: 5 p.m. ET 4/9/12.

Docket Numbers: ER12-1161-001.

Applicants: Fibrominn LLC.

Description: Fibrominn baseline eTariff with RTF to be effective 2/27/2012.

Filed Date: 3/19/12.

Accession Number: 20120319-5132.

Comments Due: 5 p.m. ET 4/9/12.

Docket Numbers: ER12-1163-001.

Applicants: ATCO Power Canada Ltd.

Description: ATCO Power Canada Limited baseline eTariff with RTF to be effective 2/27/2012.

Filed Date: 3/19/12.

Accession Number: 20120319-5126.

Comments Due: 5 p.m. ET 4/9/12.

Docket Numbers: ER12-1284-000.

Applicants: PJM Interconnection, L.L.C.

Description: Admin. Filing to Re-instate Missing Language in PJM Tariff Attach Q (V-0.1.0) to be effective 9/17/2010.

Filed Date: 3/19/12.

Accession Number: 20120319-5053.

Comments Due: 5 p.m. ET 4/9/12.

Docket Numbers: ER12-1284-001.

Applicants: PJM Interconnection, L.L.C.

Description: Admin. Filing to Re-instate Missing Language in PJM Tariff Attach Q (V-2.1.0) to be effective 1/1/2011.

Filed Date: 3/19/12.

Accession Number: 20120319-5093.

Comments Due: 5 p.m. ET 4/9/12.

Docket Numbers: ER12-1284-002.

Applicants: PJM Interconnection, L.L.C.

Description: Admin. Filing to Re-instate Missing Language in PJM Tariff Attach Q (V-3.1.0) to be effective 1/31/2011.

Filed Date: 3/19/12.

Accession Number: 20120319-5094.

Comments Due: 5 p.m. ET 4/9/12.

Docket Numbers: ER12-1284-003.

Applicants: PJM Interconnection, L.L.C.

Description: Admin. Filing to Re-instate Missing Language in PJM Tariff Attach Q (V-4.1.0) to be effective 3/1/2011.

Filed Date: 3/19/12.

Accession Number: 20120319-5103.

Comments Due: 5 p.m. ET 4/9/12.

Docket Numbers: ER12-1284-004.

Applicants: PJM Interconnection, L.L.C.

Description: Admin. Filing to Re-instate Missing Language in PJM Tariff Attach Q (V-6.1.0) to be effective 4/20/2011.

Filed Date: 3/19/12.

Accession Number: 20120319-5106.

Comments Due: 5 p.m. ET 4/9/12.

Docket Numbers: ER12-1284-005.

Applicants: PJM Interconnection, L.L.C.

Description: Admin. Filing to Re-instate Missing Language in PJM Tariff Attach Q (V-7.1.0) to be effective 4/26/2011.

Filed Date: 3/19/12.

Accession Number: 20120319-5128.

Comments Due: 5 p.m. ET 4/9/12.

Docket Numbers: ER12-1284-006.

Applicants: PJM Interconnection, L.L.C.

Description: Admin. Filing to Re-instate Missing Language in PJM Tariff Attach Q (V-8.1.0) to be effective 10/1/2011.

Filed Date: 3/19/12.

Accession Number: 20120319-5136.

Comments Due: 5 p.m. ET 4/9/12.

Docket Numbers: ER12-1284-007.

Applicants: PJM Interconnection, L.L.C.

Description: Admin. Filing to Re-instate Missing Language in PJM Tariff Attach Q (V-8.1.1) to be effective 12/13/2011.

Filed Date: 3/19/12.

Accession Number: 20120319-5137.

Comments Due: 5 p.m. ET 4/9/12.

Docket Numbers: ER12-1284-008.

Applicants: PJM Interconnection, L.L.C.

Description: Admin. Filing to Re-instate Missing Language in PJM Tariff Attach Q (V-9.1.0) to be effective 5/15/2012.

Filed Date: 3/19/12.

Accession Number: 20120319-5140.

Comments Due: 5 p.m. ET 4/9/12.

Docket Numbers: ER12-1285-000.

Applicants: Southern California Edison Company.

Description: SGIA and Distribution Service Agreement with Cascade Solar, LLC to be effective 3/20/2012.

Filed Date: 3/19/12.

Accession Number: 20120319-5107.

Comments Due: 5 p.m. ET 4/9/12.

Docket Numbers: ER12-1287-000.

Applicants: Calpine Philadelphia Inc.

Description: Notice of Cancellation to be effective 3/20/2012.

Filed Date: 3/19/12

Accession Number: 20120319-5176.

Comments Due: 5 p.m. ET 4/9/12.

Docket Numbers: ER12-1288-000.

Applicants: PJM Interconnection, L.L.C.

Description: PJM Interconnection, L.L.C. submits tariff filing per 35.13(a)(2)(iii): Queue Position V1-024/V1-025; Original Service Agreement No. 3256 to be effective 2/17/2012.

Filed Date: 3/19/12.

Accession Number: 20120319-5187.

Comments Due: 5 p.m. ET 4/9/12.

Docket Numbers: ER12-1289-000.

Applicants: The United Illuminating Company.

Description: The United Illuminating Company submits tariff filing per 35.12: Localized Costs Sharing Agreement with PSEG New Haven LLC to be effective 3/1/2012.

Filed Date: 3/19/12.

Accession Number: 20120319-5194.

Comments Due: 5 p.m. ET 4/9/12.

Take notice that the Commission received the following electric securities filings:

Docket Numbers: ES12-27-000.

Applicants: PJM Interconnection, L.L.C.

Description: Application for an Order Authorizing the Issuance of Securities of PJM Interconnection, L.L.C.

Filed Date: 3/19/12.

Accession Number: 20120319-5163

Comments Due: 5 p.m. ET 4/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2012.
Nathaniel J. Davis, Sr.,
Deputy Secretary.

[FR Doc. 2012-7146 Filed 3-23-12; 8:45 am]

BILLING CODE 6717-01-P